CORPORATION FOR NATIONAL AND COMMUNITY SERVICE

Sunshine Act Notice

The Board of Directors of the Corporation for National and Community Service gives notice of the following meeting:

DATE AND TIME: Wednesday, February 7, 2007, 9:30 a.m.-12 p.m.

PLACE: Corporation for National and Community Service, 8th Floor, 1201 New York Avenue, NW., Washington, DC 20525.

STATUS: Open.

MATTERS TO BE CONSIDERED:

I. Chair's Opening Remarks.

II. Consideration of Prior Meeting's Minutes.

III. Committee Reports.

IV. CEO Report.

V. Panel on Engaging College Students in Community Service.

VI. Public Comment.

Accommodations: Anyone who needs an interpreter or other accommodation should notify the Corporation's contact person by 5 p.m. Monday, February 5, 2007.

FOR FURTHER INFORMATION CONTACT: David Premo, Public Affairs Associate, Public Affairs, Corporation for National and Community Service, 10th Floor, Room 10302E, 1201 New York Avenue, NW., Washington, DC 20525. Phone (202) 606-6717. Fax (202) 606-3460. TDD: (202) 606-3472. E-mail: dpremo@cns.gov.

Dated: January 22, 2007.
Frank R. Trinity,
General Counsel.

[FR Doc. 07-344 Filed 1-23-07; 3:22 pm]

BILLING CODE 6050-$$-P